DEPARTMENT OF HEALTH AND HUMAN SERVICES

Administration for Children and Families

President's Committee for People With Intellectual Disabilities: Committee Meeting via Conference Call

AGENCY: President's Committee for People with Intellectual Disabilities (PCPID).

ACTION: Notice of committee meeting via conference call.

DATES: Monday, November 14, 2011, from 1 p.m. to 2:30 p.m. E.S.T. This meeting, to be held via audio conference call, is open to the public.

Details for accessing the full Committee Conference Call, for the public, are cited below:

Toll Free Dial-In Number: (800) 779-1627.

Pass Code: 7340316.

Individuals who will need accommodations in order to participate in the PCPID Meeting via audio conferencing (assistive listening devices, materials in alternative format such as large print or Braille) should notify Genevieve Swift, PCPID Executive Administrative Assistant, at Edith.Swift@acf.hhs.gov, or by telephone at (202) 619-0634, no later than Wednesday, November 9, 2011. PCPID will attempt to meet requests for accommodations made after that date, but cannot guarantee ability to grant requests received after this deadline.

Agenda: Committee Members will review and approve the 2011 PCPID Report (Letter) to the President.

FOR FURTHER INFORMATION CONTACT: For further information, please contact Laverdia Taylor Roach, Senior Advisor, President's Committee for People with Intellectual Disabilities, The Aerospace Center, Second Floor West, 370 L'Enfant Promenade SW., Washington, DC 20447. Telephone: (202) 619-0634. Fax: (202) 205-9519.

Email: LRoach@acf.hhs.gov.

SUPPLEMENTARY INFORMATION: PCPID acts in an advisory capacity to the President and the Secretary of Health and Human Services, through the Administration on Developmental Disabilities, on a broad range of topics relating to programs, services, and supports for persons with intellectual disabilities. The PCPID Executive Order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: October 27, 2011.
Jamie Kendall,
Deputy Commissioner, Administration on Developmental Disabilities.

[FR Doc. 2011-28699 Filed 11-2-11; 11:15 am]

BILLING CODE 4184-01-P